DEPARTMENT OF ENERGY

Federal Energy Regulatory Commission

Combined Notice of Filings #1

Take notice that the Commission received the following electric corporate filings:

Docket Numbers: EC19-17-000.

Applicants: Entergy Arkansas, Inc.

Description: Application for Authorization under Section 203 of the Federal Power Act of Entergy Arkansas, Inc.

Filed Date: 10/29/18.

Accession Number: 20181029-5170.

Comments Due: 5 p.m. ET 11/19/18.

Docket Numbers: EC19-18-000.

Applicants: Entergy Services, LLC, Entergy Arkansas, Inc., Entergy Louisiana, LLC, Entergy Mississippi, Inc., Entergy New Orleans, LLC, Entergy Texas, Inc.

Description: Application for Authorization under Section 203 of the Federal Power Act of Entergy Services, LLC, et al.

Filed Date: 10/29/18.

Accession Number: 20181029-5180.

Comments Due: 5 p.m. ET 11/19/18.

Docket Numbers: EC19-19-000.

Applicants: Plymouth Rock Energy, LLC.

Description: Application for Authorization Under Section 203 of the Federal Power Act, et al. of Plymouth Rock Energy, LLC.

Filed Date: 10/30/18.

Accession Number: 20181030-5094.

Comments Due: 5 p.m. ET 11/20/18.

Take notice that the Commission received the following electric rate filings:

Docket Numbers: ER12-1911-003; ER12-1912-003; ER12-1913-003; ER12-1915-003; ER12-1916-003; ER12-1917-003; ER14-41-002; ER14-42-002.

Applicants: RE McKenzie 1 LLC, RE McKenzie 2 LLC, RE McKenzie 3 LLC, RE McKenzie 4 LLC, RE McKenzie 5 LLC, RE McKenzie 6 LLC, RE Rosamond One LLC, RE Rosamond Two LLC.

Description: Notice of Non-Material Change in Status of the McKenzie and Rosamond Sellers.

Filed Date: 10/29/18.

Accession Number: 20181029-5174.

Comments Due: 5 p.m. ET 11/19/18.

Docket Numbers: ER18-1628-001.

Applicants: Midcontinent Independent System Operator, Inc.

Description: Compliance filing: 2018-10-29_Additional Compliance for Order 842 Primary Frequency Response to be effective 5/15/2018.

Filed Date: 10/29/18.

Accession Number: 20181029-5143.

Comments Due: 5 p.m. ET 11/19/18.

Docket Numbers: ER18-2419-001.

Applicants: Midcontinent Independent System Operator, Inc.

Description: Tariff Amendment: 2018-10-30_SA 2953 Quilt Block Wind Farm-ATC Substitute 2nd Rev GIA (J395 J652) to be effective 8/28/2018.

Filed Date: 10/30/18.

Accession Number: 20181030-5064.

Comments Due: 5 p.m. ET 11/20/18.

Docket Numbers: ER19-209-000.

Applicants: San Diego Gas & Electric Company.

Description: § 205(d) Rate Filing: 2019 SDGE TRBAA Update to Transmission Owner Tariff Filing to be effective 1/1/2019.

Filed Date: 10/29/18.

Accession Number: 20181029-5122.

Comments Due: 5 p.m. ET 11/19/18.

Docket Numbers: ER19-210-000.

Applicants: PJM Interconnection, L.L.C.

Description: § 205(d) Rate Filing: Maintenance Adder Revisions to the PJM Tariff to be effective 12/31/9998.

Filed Date: 10/29/18.

Accession Number: 20181029-5154.

Comments Due: 5 p.m. ET 11/19/18.

Docket Numbers: ER19-211-000.

Applicants: Entergy Louisiana, LLC, Entergy Mississippi, Inc., Entergy New Orleans, LLC, Entergy Texas, Inc., Entergy Arkansas, Inc.

Description: § 205(d) Rate Filing: TCCs JOOA to be effective 12/31/9998.

Filed Date: 10/29/18.

Accession Number: 20181029-5161.

Comments Due: 5 p.m. ET 11/19/18.

Docket Numbers: ER19-212-000.

Applicants: NorthWestern Corporation.

Description: § 205(d) Rate Filing: SA 296 5th Rev—NITSA-NOA with Exxon Mobil Corporation to be effective 8/1/2018.

Filed Date: 10/29/18.

Accession Number: 20181029-5162.

Comments Due: 5 p.m. ET 11/19/18.

Docket Numbers: ER19-213-000.

Applicants: Duke Energy Carolinas, LLC.

Description: § 205(d) Rate Filing: NCEMPA 1 RS No. 318 (2019) to be effective 1/1/2019.

Filed Date: 10/30/18.

Accession Number: 20181030-5029.

Comments Due: 5 p.m. ET 11/20/18.

Docket Numbers: ER19-214-000.

Applicants: South Carolina Electric & Gas Company.

Description: § 205(d) Rate Filing: SCPSA Interconnection Agreement to be effective 12/31/2018.

Filed Date: 10/30/18.

Accession Number: 20181030-5041.

Comments Due: 5 p.m. ET 11/20/18.

Docket Numbers: ER19-215-000.

Applicants: Alabama Power Company.

Description: § 205(d) Rate Filing: Cane Creek Solar LGIA Filing to be effective 10/23/2018.

Filed Date: 10/30/18.

Accession Number: 20181030-5047.

Comments Due: 5 p.m. ET 11/20/18.

Docket Numbers: ER19-216-000.

Applicants: Alabama Power Company.

Description: § 205(d) Rate Filing: Moonshot Solar LGIA Filing to be effective 10/23/2018.

Filed Date: 10/30/18.

Accession Number: 20181030-5053.

Comments Due: 5 p.m. ET 11/20/18.

Docket Numbers: ER19-217-000.

Applicants: Duke Energy Progress, LLC.

Description: § 205(d) Rate Filing: DEP-NCEMC (RS-182) Amendment to be effective 1/1/2019.

Filed Date: 10/30/18.

Accession Number: 20181030-5061.

Comments Due: 5 p.m. ET 11/20/18.

Docket Numbers: ER19-218-000.

Applicants: Midcontinent Independent System Operator, Inc.

Description: § 205(d) Rate Filing: 2018-10-30_SA 3193 OSER-Ameren Illinois GIA (J644) to be effective 10/17/2018.

Filed Date: 10/30/18.

Accession Number: 20181030-5090.

Comments Due: 5 p.m. ET 11/20/18.

Docket Numbers: ER19-219-000.

Applicants: Southern California Edison Company.

Description: § 205(d) Rate Filing: 2019 RSBAA Update Filing to be effective 1/1/2019.

Filed Date: 10/30/18.

Accession Number: 20181030-5120.

Comments Due: 5 p.m. ET 11/20/18.

Docket Numbers: ER19-222-000.

Applicants: Wisconsin Power and Light Company.

Description: § 205(d) Rate Filing: WPL—Mazomanie Wholesale Service Agreement to be effective 12/31/2018.

Filed Date: 10/30/18.

Accession Number: 20181030-5156.

Comments Due: 5 p.m. ET 11/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2018.
Nathaniel J. Davis, Sr.,
Deputy Secretary.

[FR Doc. 2018-24095 Filed 11-2-18; 8:45 am]

BILLING CODE 6717-01-P